COMMODITY FUTURES TRADING COMMISSION

Market Risk Advisory Committee

AGENCY: Commodity Futures Trading Commission.

ACTION: Notice of meeting.

SUMMARY: The Commodity Futures Trading Commission (CFTC) announces that on June 20, 2017, from 10:00 a.m. to 12:30 p.m., the Market Risk Advisory Committee (MRAC) will hold a public meeting at the CFTC's Washington, DC, headquarters. At this meeting, the MRAC will: (1) Respond to a presentation by the CFTC's Division of Clearing and Risk on how it conducts risk surveillance of central counterparties (CCPs); (2) discuss how to better inform the CCP regulatory framework through academic research and economic analysis; and (3) advise the Commission of the potential effects of Brexit on financial markets.

DATES: The meeting will be held on June 20, 2017 from 10:00 a.m. to 12:30 p.m. Members of the public who wish to submit written statements in connection with the meeting should submit them by June 27, 2017.

ADDRESSES: The meeting will take place in the Conference Center at the CFTC's headquarters, Three Lafayette Centre, 1155 21st Street NW., Washington, DC 20581. Written statements should be submitted by mail to: Commodity Futures Trading Commission, Three Lafayette Centre, 1155 21st Street NW., Washington, DC 20581, attention: Secretary of the Commission; or by electronic mail to: secretary@cftc.gov. Please use the title “Market Risk Advisory Committee” in any written statement you submit. Any statements submitted in connection with the committee meeting will be made available to the public, including by publication on the CFTC Web site, www.cftc.gov.

FOR FURTHER INFORMATION CONTACT: Petal Walker, MRAC Designated Federal Officer, Commodity Futures Trading Commission, Three Lafayette Centre, 1155 21st Street NW., Washington, DC 20581; (202) 418-5060.

SUPPLEMENTARY INFORMATION: The meeting will be open to the public with seating on a first-come, first-served basis. Members of the public may also listen to the meeting by telephone by calling a domestic toll-free telephone or international toll or toll-free number to connect to a live, listen-only audio feed. Call-in participants should be prepared to provide their first name, last name, and affiliation.

Domestic Toll Free: 1-866-844-9416.

International Toll and Toll Free: Will be posted on the CFTC's Web site, www.cftc.gov, on the page for the meeting, under Related Links.

Pass Code/Pin Code: 4200483.

The meeting agenda may change to accommodate other MRAC priorities. For agenda updates, please visit the MRAC committee site at: http://www.cftc.gov/About/CFTCCommittees/MarketRiskAdvisoryCommittee/mrac_meetings.

After the meeting, a transcript of the meeting will be published through a link on the CFTC's Web site, www.cftc.gov. All written submissions provided to the CFTC in any form will also be published on the CFTC's Web site. Persons requiring special accommodations to attend the meeting because of a disability should notify the contact person above.

Authority: 5 U.S.C. app. 2 § 10(a)(2).

Dated: May 26, 2017.
Christopher J. Kirkpatrick,
Secretary of the Commission.

[FR Doc. 2017-11312 Filed 5-31-17; 8:45 am]

BILLING CODE 6351-01-P